DEPARTMENT OF AGRICULTURE

Animal and Plant Health Inspection Service

[Docket No. APHIS-2015-0042]

Notice of Availability of an Evaluation of the Fever Tick Status of the State of Chihuahua, Excluding the Municipalities of Guadalupe y Calvo and Morelos

AGENCY: Animal and Plant Health Inspection Service, USDA.

ACTION: Notice of availability.

SUMMARY: We are notifying the public that we have prepared an evaluation of the State of Chihuahua, excluding the municipalities of Guadalupe y Calvo and Morelos, for fever ticks. The evaluation concludes that this region is free from fever ticks, and that ruminants imported from the area pose a low risk of exposing ruminants within the United States to fever ticks. We are making the evaluation available for review and comment.

DATES: We will consider all comments that we receive on or before July 11, 2016.

ADDRESSES: You may submit comments by either of the following methods:

• Federal eRulemaking Portal: Go to http://www.regulations.gov/#!docketDetail;D=APHIS-2015-0042.

• Postal Mail/Commercial Delivery: Send your comment to Docket No. APHIS-2015-0042, Regulatory Analysis and Development, PPD, APHIS, Station 3A-03.8, 4700 River Road Unit 118, Riverdale, MD 20737-1238.

Supporting documents and any comments we receive on this docket may be viewed at http://www.regulations.gov/#!docketDetail;D=APHIS-2015-0042 or in our reading room, which is located in room 1141 of the USDA South Building, 14th Street and Independence Avenue SW., Washington, DC. Normal reading room hours are 8 a.m. to 4:30 p.m., Monday through Friday, except holidays. To be sure someone is there to help you, please call (202) 799-7039 before coming.

FOR FURTHER INFORMATION CONTACT: Dr. Betzaida Lopez, Senior Staff Veterinarian, National Import Export Services, VS, APHIS, 4700 River Road Unit 39, Riverdale, MD 20737; (301) 851-3300.

SUPPLEMENTARY INFORMATION: The regulations in 9 CFR part 93 prohibit or restrict the importation of certain animals, birds, and poultry into the United States to prevent the introduction of communicable diseases of livestock and poultry. Subpart D of part 93 (§§ 93.400 through 93.436, referred to below as the regulations) governs the importation of ruminants; within the regulations, §§ 93.424 through 93.429 specifically address the importation of various ruminants from Mexico into the United States.

The regulations in paragraph (b)(1) of § 93.427 contain conditions for the importation of ruminants from regions of Mexico that we consider free from fever ticks (Boophilus annulatus). Regions of Mexico that we consider free from fever ticks are listed at http://www.aphis.usda.gov/wps/portal/aphis/ourfocus/importexport. Currently, the State of Sonora is the only region on this list.

Mexico has asked the Animal and Plant Health Inspection Service to recognize the State of Chihuahua, except the municipalties of Guadalupe y Calvo and Morelos, as a region free from fever ticks. In response to this request, we have prepared an evaluation of the fever tick status of this region. The evaluation concludes that the State of Chihuahua, excluding the municipalities of Guadalupe y Calvo and Morelos, is free from fever ticks, and that ruminants imported from the region pose a low risk of exposing ruminants within the United States to fever ticks.

We are making the evaluation available for public review and comment. The assessment is available on the Regulations.gov Web site (see ADDRESSES above) or by contacting the person listed in this document under the heading FOR FURTHER INFORMATION CONTACT. After the close of the comment period, we will notify the public of our final determination regarding the status of the State of Chihuahua, excluding the municipalities of Guadalupe y Calvo and Morelos, for fever ticks.

Authority: 7 U.S.C. 1622 and 8301-8317; 21 U.S.C. 136 and 136a; 31 U.S.C. 9701; 7 CFR 2.22, 2.80, and 371.4.

Done in Washington, DC, this 6th day of May 2016.
Kevin Shea,
Administrator, Animal and Plant Health Inspection Service.

[FR Doc. 2016-11150 Filed 5-11-16; 8:45 am]

BILLING CODE 3410-34-P